NUCLEAR REGULATORY COMMISSION

Advisory Committee on the Medical Uses of Isotopes: Meeting Notice

AGENCY: U.S. Nuclear Regulatory Commission

ACTION: Notice of meeting.

SUMMARY: The U.S. Nuclear Regulatory Commission (NRC) will convene a meeting of the Advisory Committee on the Medical Uses of Isotopes (ACMUI) on June 5, 2024 to discuss the ACMUI's draft subcommittee report on the NRC's draft interim staff guidance for the implementation of training and experience requirements in the NRC's regulations, “Medical Use of Byproduct Material.” Meeting information, including a copy of the agenda and handouts, will be available on the ACMUI's Meetings and Related Documents web page at https://www.nrc.gov/reading-rm/doc-collections/acmui/meetings/2024.html or by emailing Ms. L. Armstead at the contact information below.

DATES: June 5, 2024, from 1:00 p.m. to 3:00 p.m. Eastern Time.

ADDRESSES: This is a virtual meeting.

Date | Webinar information (Microsoft teams)
June 5, 2024 | Link: https://teams.microsoft.com/l/meetup-join/19%3ameeting_NjllNmZkODktZTg3My00MDU0LTk4NzMtNjRhNmJlYmRmNGY1%40thread.v2/0?context=%7b%22Tid%22%3a%22e8d01475-c3b5-436a-a065-5def4c64f52e%22%2c%22Oid%22%3a%22304f46bf-32c2-4e0f-912c-878db895e74a%22%7d.
| Meeting ID: 242 726 987 987.
| Passcode: pWAXN2.
| Call in number (audio only): +301-576-2978, United States, Silver Spring.
| Phone Conference ID: 652 827 577#.

Public Participation: The meeting will be held using Microsoft Teams. Any member of the public who wishes to participate in the meeting via Microsoft Teams or via phone can use the information provided above or should contact Ms. L. Armstead. Members of the public should also monitor the NRC's Public Meeting Schedule at https://www.nrc.gov/pmns/mtg for any meeting updates.

FOR FURTHER INFORMATION CONTACT: Ms. L. Armstead, email: lxa5@nrc.gov, telephone: 301-415-1650.

Conduct of the Meeting

The ACMUI Vice Chair, Mr. Richard Green will preside over the meeting. Mr. Green will conduct the meeting in a manner that will facilitate the orderly conduct of business. The following procedures apply to public participation in the meeting:

1. Persons who wish to provide a written statement should submit an electronic copy to Ms. L. Armstead using the contact information listed above. All submittals must be received by the close of business on May 30, 2024, and must only pertain to the topics on the agenda.

2. Questions and comments from members of the public will be permitted during the meeting, at the discretion of the ACMUI Vice Chair.

3. The draft transcript and meeting summary will be available on ACMUI's website https://www.nrc.gov/reading-rm/doc-collections/acmui/meetings/2024.html on or about July 19, 2024.

4. Persons who require special services, such as those for the hearing impaired, should notify Ms. L. Armstead of their planned participation.

This meeting will be held in accordance with the Atomic Energy Act of 1954, as amended (primarily Section 161a); the Federal Advisory Committee Act (5 U.S.C. App); and the Commission's regulations in Title 10 of the Code of Federal Regulations, part 7.

Dated at Rockville, Maryland this 2nd day of May, 2024.
For the U.S. Nuclear Regulatory Commission.
Russell E. Chazell,
Federal Advisory Committee Management Officer.

[FR Doc. 2024-09901 Filed 5-6-24; 8:45 am]

BILLING CODE 7590-01-P